DEPARTMENT OF THE INTERIOR

Fish and Wildlife Service

[FWS-R8-ES-2008-N0008; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before March 3, 2008.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-085026

Applicant: Jeff Steinman, San Juan Capistrano, California

The applicant requests an amendment to take (locate and monitor nests) the least Bell's vireo (Vireo bellii pusillus) in conjunction with surveys and population monitoring throughout the range of the species in California, for the purpose of enhancing its survival.

Permit No. TE-172629

Applicant: Kirsten Sellheim, Davis, California

The applicant requests an amendment to take (capture, collect, and kill) the Conservancy fairy shrimp (Branchinecta conservatio), the longhorn fairy shrimp (Branchinecta longiantenna), and the vernal pool tadpole shrimp (Lepidurus packardi) in conjunction with research and genetic analysis in Lassen, Plumas, Mendocino, Lake Colusa, Sacramento, Napa, Alameda, Merced, Stanislaus, Fresno, Solano, San Luis Obispo, and Santa Barbara Counties, California, and in Jackson County, Oregon, for the purpose of enhancing their survival.

Permit No. TE-035879

Applicant: Wildlands Incorporated, Rocklin, California

The permittee requests an amendment to take (harass by survey, capture, handle, and release) the California tiger salamander (Ambystoma californiense) in conjunction with surveys throughout the range of the species in California, for the purpose of enhancing its survival.

Permit No. TE-809232

Applicant: Bio-West, Incorporated, Logan, Utah

The applicant requests an amendment to remove/reduce to possession Nitrophila mohavensis (Amargosa nitorphila) from Federal lands in conjunction with research in Nye County, Nevada, for the purpose of enhancing its survival.

We solicit public review and comment on each of these recovery permit applications. Comments and materials we receive will be available for public inspection, by appointment, during normal business hours at the address listed in the ADDRESSES section of this notice.

Dated: January 24, 2008.
Michael Fris,
Acting Regional Director, Region 8, Sacramento, California.

>[FR Doc. E8-1684 Filed 1-30-08; 8:45 am]

BILLING CODE 4310-55-P